DEPARTMENT OF STATE

[Delegation of Authority No. 595]

Delegation of Authority to the Assistant Secretary of State for Political-Military Affairs Under 10 U.S.C. 352

By virtue of the authority vested in the Secretary of State, including section 1 of the State Department Basic Authorities Act (22 U.S.C. 2651a) and 10 U.S.C. 352—Naval Small Craft Instruction & Technical Training School, I hereby delegate to the Assistant Secretary of State for Political-Military Affairs, to the extent authorized by law, the authority to concur with the report required under section 352(f) of title 10 of the U.S. Code.

Any function or authority delegated herein may be exercised by the Secretary, a Deputy Secretary, or the Under Secretary for Arms Control and International Security. Any reference in this delegation of authority to any statute or delegation of authority shall be deemed to be a reference to such statute or delegation of authority as amended from time to time.

This document will be published in the Federal Register.

Dated: July 30, 2025.
Marco Rubio,
Secretary of State.

[FR Doc. 2025-16165 Filed 8-21-25; 8:45 am]

BILLING CODE 4710-25-P